CONSUMER FINANCIAL PROTECTION BUREAU

[Docket No. CFPB-2023-0050]

Agency Information Collection Activities: Comment Request

AGENCY: Consumer Financial Protection Bureau.

ACTION: Notice and request for comment.

SUMMARY: In accordance with the Paperwork Reduction Act of 1995 (PRA), the Consumer Financial Protection Bureau (CFPB) requests the extension of the Office of Management and Budget's (OMB's) approval for an existing information collection titled “Payday, Vehicle Title, and Certain High-Cost Installment Loans” approved under OMB Control Number 3170-0071.

DATES: Written comments are encouraged and must be received on or before November 3, 2023 to be assured of consideration.

ADDRESSES: Written comments and recommendations for the proposed information collection should be sent within 30 days of publication of this notice to www.reginfo.gov/public/do/PRAMain. Find this particular information collection by selecting “Currently under 30-day Review—Open for Public Comments” or by using the search function.

In general, all comments received will become public records, including any personal information provided. Sensitive personal information, such as account numbers or Social Security numbers, should not be included.

FOR FURTHER INFORMATION CONTACT: Requests for additional information should be directed to Anthony May, Paperwork Reduction Act Officer, at (202) 435-7278, or email: CFPB_PRA@cfpb.gov. If you require this document in an alternative electronic format, please contact CFPB_Accessibility@cfpb.gov. Please do not submit comments to these email boxes.

SUPPLEMENTARY INFORMATION:

Title of Collection: Payday, Vehicle Title, and Certain High-Cost Installment Loans.

OMB Control Number: 3170-0071.

Type of Review: Extension without change of a currently approved collection.

Affected Public: State, Local, and Tribal Governments.

Estimated Number of Respondents: 9,887.

Estimated Total Annual Burden Hours: 3,189,587.

Abstract: 12 Code of Federal Regulations (CFR) part 1041 applies to non-depository institutions and loan brokers engaged in consumer lending, credit intermediation activities, or activities related to credit intermediation. Additionally, banks and credit unions that make loans are subject to the regulation. The purpose of this regulation is to identify certain unfair and abusive acts or practices in connection with certain consumer credit transactions, to set forth requirements for preventing such acts or practices, and to provide certain partial conditional exemptions from aspects of this regulation. This regulation also contains requirements to ensure that the features of those consumer credit transactions are fully, accurately, and effectively disclosed to consumers.

Request for Comments: The Bureau published a 60-day Federal Register notice on June 23, 2023, (88 FR 41086) under Docket Number: CFPB-2023-0036 The Bureau is publishing this notice and soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Anthony May,
Paperwork Reduction Act Officer, Consumer Financial Protection Bureau.

[FR Doc. 2023-21910 Filed 10-3-23; 8:45 am]

BILLING CODE 4810-25-P